DEPARTMENT OF COMMERCE

International Trade Administration

[A-570-890]

Wooden Bedroom Furniture from the People's Republic of China: Final Results of Antidumping Duty Administrative Review and New Shipper Review

AGENCY: Import Administration, International Trade Administration, Department of Commerce.

SUMMARY: On February 13, 2008, the Department of Commerce (“Department”) published its preliminary results and partial rescission in the antidumping duty administrative review and new shipper review of wooden bedroom furniture from the People's Republic of China (“PRC”). The period of review (“POR”) for the administrative review and the new shipper review is January 1, 2006, through December 31, 2006. In the administrative review, we have determined that all three mandatory respondents (i.e., Fujian Lianfu Forestry Co./Fujian Wonder Pacific Inc./Fuzhou Huan Mei Furniture Co., Ltd./Jiangsu Dare Furniture Co., Ltd. (collectively, “the Dare Group”); Shanghai Starcorp Furniture Co., Ltd, Starcorp Furniture (Shanghai) Co., Ltd., Orin Furniture (Shanghai) Co., Ltd., Shanghai Star Furniture Co., Ltd., and Shanghai Xing Ding Furniture Industrial Co., Ltd. (collectively, “Starcorp”); and Teamway Furniture (Dong Guan) Co., Ltd., and Brittomart Inc. (collectively “Teamway”)) made sales in the United States at prices below normal value. With respect to the remaining respondents in the administrative review (collectively, “Separate Rate Applicants”), we determined that 27 entities have provided sufficient evidence that they are separate from the state-controlled entity, and we have established a weighted-average margin based on the rates for the three mandatory respondents, excluding any that are zero, de minimis, or based entirely on adverse facts available (“AFA”), to be applied to these separate-rate entities. For the new shipper review, the Department also reviewed one exporter/producer, Mei Jia Ju Furniture Industrial (Shenzhen) Co. Ltd. (“Mei Jia Ju”). We invited interested parties to comment on our preliminary results in these reviews. We received no comments in the new shipper review. Based on our analysis of the comments we received in the administrative review, we made certain changes to our calculations for all mandatory respondents. The final dumping margins for this review are listed in the “Final Results Margins” section below.

EFFECTIVE DATE: August 20, 2008.

FOR FURTHER INFORMATION CONTACT: Paul Stolz or Robert Bolling, AD/CVD Operations, Office 8, Import Administration, International Trade Administration, U.S. Department of Commerce, 14th Street and Constitution Avenue, NW., Washington, DC 20230; telephone: (202) 482-4474 and (202) 482-3434, respectively.

Background

The Department published its preliminary results on February 13, 2008. See Wooden Bedroom Furniture From the People's Republic of China: Preliminary Results of Antidumping Duty Administrative Review, Preliminary Results of New Shipper Review and Partial Rescission of Administrative Review, 73 FR 8273 (February 13, 2008) (“Preliminary Results”). The Department conducted verification of two of the mandatory respondents' data in the PRC. See “Verification” section, below, for additional information.

On June 23, 2008, the Department extended the deadline for the final results of review to August 11, 2008. See Wooden Bedroom Furniture from the People's Republic of China: Extension of Time Limits for the Final Results of the Antidumping Duty Administrative Review and New Shipper Reviews, 73 FR 35369 (June 23, 2008). We invited parties to comment on the Preliminary Results. We received comments from petitioners American Furniture Manufacturers Committee for Legal Trade and Vaughan-Bassett Furniture Company, certain mandatory respondents, certain Separate-Rate Applicants, and other interested parties to this review. Interested parties submitted case and rebuttal briefs on July 18 and July 23, 2008, respectively.

Analysis of Comments Received

All issues raised in the case and rebuttal briefs by parties in this review are addressed in the memorandum from Stephen J. Claeys, Deputy Assistant Secretary for Import Administration, to David M. Spooner, Assistant Secretary for Import Administration, “Issues and Decision Memorandum for the Final Results of the Antidumping Duty Administrative Review and New Shipper Review of Wooden Bedroom Furniture from the People's Republic of China,” dated August 11, 2008, which is hereby adopted by this notice (“Issues and Decision Memorandum”). A list of the issues which parties raised and to which we respond in the Issues and Decision Memorandum is attached to this notice as an Appendix. The Issues and Decision Memorandum is a public document and is on file in the Central Records Unit (“CRU”), Main Commerce Building, Room 1117, and is accessible on the Web at http://ia.ita.doc.gov/frn. The paper copy and electronic version of the memorandum are identical in content.

Period of Review

The POR is January 1, 2006, through December 31, 2006.

Scope of the Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, oriented strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,¹ highboys,² lowboys,³ chests of drawers,⁴ chests,⁵ door chests,⁶ chiffoniers,⁷ hutches,⁸ and armoires; ⁹ (6) desks, computer stands, filing cabinets, book cases, or writing tables that are attached to or incorporated in the subject merchandise; and (7) other bedroom furniture consistent with the above list.

¹ A chest-on-chest is typically a tall chest-of-drawers in two or more sections (or appearing to be in two or more sections), with one or two sections mounted (or appearing to be mounted) on a slightly larger chest; also known as a tallboy.

² A highboy is typically a tall chest of drawers usually composed of a base and a top section with drawers, and supported on four legs or a small chest (often 15 inches or more in height).

³ A lowboy is typically a short chest of drawers, not more than four feet high, normally set on short legs.

⁴ A chest of drawers is typically a case containing drawers for storing clothing.

⁵ A chest is typically a case piece taller than it is wide featuring a series of drawers and with or without one or more doors for storing clothing. The piece can either include drawers or be designed as a large box incorporating a lid.

⁶ A door chest is typically a chest with hinged doors to store clothing, whether or not containing drawers. The piece may also include shelves for televisions and other entertainment electronics.

⁷ A chiffonier is typically a tall and narrow chest of drawers normally used for storing undergarments and lingerie, often with mirror(s) attached.

⁸ A hutch is typically an open case of furniture with shelves that typically sits on another piece of furniture and provides storage for clothes.

⁹ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ¹⁰ (9) jewelry armories; ¹¹ (10) cheval mirrors; ¹² (11) certain metal parts; ¹³ (12) mirrors that do not attach to, incorporate in, sit on, or hang over a dresser if they are not designed and marketed to be sold in conjunction with a dresser as part of a dresser-mirror set; and (13) upholstered beds.¹⁴ Imports of subject merchandise are classified under subheading 9403.50.9040 of the HTSUS as “wooden * * * beds” and under subheading 9403.50.9080 of the HTSUS as “other * * * wooden furniture of a kind used in the bedroom.” In addition, wooden headboards for beds, wooden footboards for beds, wooden side rails for beds, and wooden canopies for beds may also be entered under subheading 9403.50.9040 of the HTSUS as “parts of wood” and framed glass mirrors may also be entered under subheading 7009.92.5000 of the HTSUS as “glass mirrors * * * framed.” This order covers all wooden bedroom furniture meeting the above description, regardless of tariff classification. Although the HTSUS subheadings are provided for convenience and customs purposes, our written description of the scope of this proceeding is dispositive.

¹⁰ As used herein, bentwood means solid wood made pliable. Bentwood is wood that is brought to a curved shape by bending it while made pliable with moist heat or other agency and then set by cooling or drying. See Customs' Headquarters' Ruling Letter 043859, dated May 17, 1976.

¹¹ Any armoire, cabinet or other accent item for the purpose of storing jewelry, not to exceed 24″ in width, 18″ in depth, and 49″ in height, including a minimum of 5 lined drawers lined with felt or felt-like material, at least one side door (whether or not the door is lined with felt or felt-like material), with necklace hangers, and a flip-top lid with inset mirror. See Issues and Decision Memorandum from Laurel LaCivita to Laurie Parkhill, Office Director, Concerning Jewelry Armoires and Cheval Mirrors in the Antidumping Duty Investigation of Wooden Bedroom Furniture from the People's Republic of China, dated August 31, 2004. See also Wooden Bedroom Furniture From the People's Republic of China: Notice of Final Results of Changed Circumstances Review and Revocation in Part, 71 FR 38621 (July 7, 2006).

¹² Cheval mirrors are any framed, tiltable mirror with a height in excess of 50″ that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet lined with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Results of Changed Circumstances Review and Determination To Revoke Order in Part, 72 FR 948 (January 9, 2007).

¹³ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under the Harmonized Tariff Schedule of the United States (“HTSUS”) subheading 9403.90.7000.

¹⁴ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture From the People's Republic of China: Final Results of Changed Circumstances Review and Determination To Revoke Order in Part, 72 FR 7013 (February 14, 2007).

Verification

As provided in section 782(i) of the Tariff Act of 1930, as amended (“Act”), we verified the information submitted by certain mandatory respondents. See Memoranda to the File, “Verification of the Factors Response of {the Dare Group}, in the Second Administrative Review of the Antidumping Duty Order on Wooden Bedroom Furniture from the PRC,” (July 10, 2008) (“Dare Group Verification Report”) and “Verification of the Factors Response of {Teamway} in the Second Administrative Review of the Antidumping Duty Order on Wooden Bedroom Furniture from the PRC” (July 3, 2008) (“Teamway Verification Report”), on file in the CRU. For all verified companies, we used standard verification procedures, including examination of relevant accounting and production records, as well as original source documents provided by respondents. For further details on the verifications, see the Dare Group Verification Report and the Teamway Verification Report.

Changes Since the Preliminary Results

Based on an analysis of the comments received, the Department has made certain changes in the margin calculations. For the final results, the Department has made the following changes with respect to surrogate financial ratios, surrogate values, the Dare Group and Teamway.

General Issues

Calculation of Surrogate Financial Ratios

• After the Preliminary Results, the Dare Group's importer, American Signature Inc., placed financial statements on the record for the following four Philippine companies: (1) Berbenwood Industries, Inc. (“Berbenwood”); (2) Antonio Bryan Development Corporation (“Antonio Bryan”); (3) Arkane International Corporation; and (4) Raphael Legacy Designs, Inc. For the final results, we included Antonio Bryan and Berbenwood's surrogate financial ratio calculations in the average financial ratios. See Memorandum to The File, “Second Administrative Review of Wooden Bedroom Furniture from the People's Republic of China: Factor Valuation Memorandum for the Final Results” (“Final FOP Memo”) and Issues and Decision Memorandum at Comment 10.

• Calfurn Manufacturing Philippines, Inc. (“Calfurn”): (1) We treated Calfurn's “gas and oil” as material, labor, and energy (“ML&E”) related to respondents’ reported factors of production (“FOPs”); and (2) we treated energy related to selling, general, and administrative (“SG&A”) expenses as SG&A. See Final FOP Memo and Issues and Decision Memorandum at Comment 11.

• Insular Rattan & Native Products, Corporation (“Insular Rattan”): (1) We treated Insular Rattan's “fuel used” as ML&E; and (2) we treated energy related to SG&A operations as SG&A expenses. See Final FOP Memo and Issues and Decision Memorandum at Comment 11.

Recalculation of Surrogate Values

• For the final results, the Department corrected certain unit conversion factors used to calculate surrogate values.

• The Department calculated surrogate values for certain FOPs using Indian import statistics.

• The Department recalculated the surrogate values for granite and leatheroid, excluding aberrational import data from the calculations.

• The Department recalculated surrogate values for certain inputs where corrupted data was mistakenly used in the Preliminary Results.

• The Department recalculated the surrogate financial ratios.

See Final FOP Memo.

Company-Specific Issues

The Dare Group

• The Dare Group reported market economy purchase (“MEP”) prices for paint, light, catches, poplar, and plastic. At the Department's request, the Dare Group disaggregated these FOPs into more specific groupings. However, the Dare Group did not report the percentage of each of the disaggregated FOPs purchased from market economy (“ME”) countries in ME currencies. Therefore, as partial AFA, the Department is valuing the disaggregated MEP FOPs using surrogate values based on Indian or Philippine import statistics, as applicable. See Issues and Decision Memorandum at Comment 14 and the Analysis Memorandum for the Final Results of Review: Fujian Lianfu Forestry Co., Ltd., Fuzhou Huan Mei Furniture Co. Ltd., and Jiangsu Dare Furniture Co., Ltd. (“Dare Group Final Calculation Memo”).

• The Department found at verification that the Dare Group under-reported consumption of the FOP “Plywood with Veneer.” As partial AFA, the Department is increasing the per-unit consumption rate of this FOP as described in the Dare Group Final Calculation Memo. See Issues and Decision Memorandum at Comment 16 and the Dare Group Final Calculation Memo.

• The Dare Group reported it purchased subject merchandise, semi-finished furniture, from unaffiliated suppliers which it further processed and subsequently sold to the United States, but did not report the relevant FOPs which it further processed and sold to the United States during the POR. However, the Dare Group provided documents evidencing it attempted to obtain the FOP data from its suppliers but its suppliers did not provide the FOPS as requested. Therefore, as facts available, the Department is valuing semi-finished furniture as an FOP using Indian import statistics. See Issues and Decision Memorandum at Comment 12 and the Dare Group Final Calculation Memo.

• For the final results, the Department has treated the Dare Group's reported per-unit “Woodscrap” as a by-product. See Issues and Decision Memorandum at Comment 20 and the Dare Group Final Calculation Memo.

• The Department corrected certain clerical errors in the Dare Group's surrogate value summary sheet with respect to notations in the source unit, currency, and final unit columns. See Issues and Decision Memorandum at Comment 21 and the Dare Group Final Calculation Memo.

• We have excluded certain sales of non-subject merchandise from the Dare Group's U.S. sales database. See Issues and Decision Memorandum at Comment 15 and the Dare Group Final Calculation Memo.

Teamway

• For these final results, we applied AFA to steel screws, nut steel, steel bar, glue, direct labor, electricity, water, and fuel/oil/diesel from the May 5, 2008, FOP database for subcontractors for whom Teamway provided materials. See Issues and Decision Memorandum at Comment 26 and Analysis of the Final Results Margin Calculation for Teamway Furniture (Dong Guan) Ltd. and Brittomart Incorporated (“Teamway Final Calculation Memo”).

• For these final results, we applied AFA to the veneers, glue, parquet tape, direct labor, electricity, water, and fuel/oil/diesel from the May 5, 2008, FOP database for subcontractors for whom Teamway did not provide materials. See Issues and Decision Memorandum at Comment 26 and Teamway Final Calculation Memo.

• For these final results, for bun feet, bent wood, and mirrors obtained from subcontractors for whom Teamway did not provide materials, we valued these inputs with surrogate values. See Issues and Decision Memorandum at Comment 29 and Teamway Final Calculation Memo.

• For the final margin calculation, we created a new integrated FOP database based upon the FOP databases submitted on May 5, 2008. This final integrated FOP database incorporates on the following: (1) The May 5, 2008, Teamway in-house FOP database; (2) the May 5, 2008, FOP database for subcontractors for whom Teamway provided materials, as adjusted for the application of partial AFA discussed above, and; (3) the May 5, 2008, FOP database for subcontractors for whom Teamway did not provide materials, as adjusted for: (A) The minor correction, which we accepted, to correct the reported water and electricity usage rates;¹⁵ and (B) the application of partial AFA discussed above. See Issues and Decision Memorandum at Comment 27 and Teamway Final Calculation Memo.

¹⁵ See Teamway Verification Report at 2 (i.e., I. Minor Corrections 3.b).

• As facts available, for these final results for the merchandise that was sold, but not produced, during the POR, we determined to use the FOPs from the final integrated FOP database (discussed immediately above) for the most similar control number (“CONNUM”) produced during the POR (as determined by the Department). See Issues and Decision Memorandum at Comment 28 and Teamway Final Calculation Memo.

• For the final results, we reexamined a certain input purchased by Teamway, and found that the volume of this input from ME suppliers during the POR was below 33 percent of the company's total volume of purchases of the input during the POR. Therefore, consistent with our practice, we weight-averaged the MEP price Teamway paid for the certain input with the appropriate surrogate value, according to its respective shares of the total volume of purchases, as appropriate. See Issues and Decision Memorandum at Comment 32 and Teamway Final Calculation Memo.

• For the final results, we removed packing labor from the labor component of COM, and included it only in the packing costs which we used to calculate normal value. See Issues and Decision Memorandum at Comment 31 and Teamway Final Calculation Memo.

• The U.S. sales database and the FOP databases, on which we based our integrated FOP database that we used for these final results, were placed on the record after the preliminary results. We found, and corrected errors in these databases which were not raised in the parties' briefs. A full discussion of the additional corrections we made to the Teamway U.S. sales database and integrated FOP database we used for these final results can be found in the Teamway Final Calculation Memo.

Surrogate Country

In the Preliminary Results, we stated that we had selected the Philippines as the appropriate surrogate country to use in this review for the following reasons: (1) It is a significant producer of comparable merchandise; (2) it is at a level of economic development comparable to that of the PRC; and (3) we have reliable data from the Philippines that we can use to value the FOPs. See Preliminary Results. For the final results, we received comments regarding our selection of a surrogate country. After reviewing those comments, we determined to make no changes to our findings with respect to the selection of a surrogate country. However, for certain inputs the Department determined to use India to value those inputs. See Comment 1 of the Issues and Decision Memorandum.

Separate Rates

In proceedings involving non-market economy (“NME”) countries, the Department begins with a rebuttable presumption that all companies within the country are subject to government control and, thus, should be assigned a single antidumping duty deposit rate. It is the Department's policy to assign all exporters of merchandise subject to an investigation in an NME country this single rate unless an exporter can demonstrate that it is sufficiently independent so as to be entitled to a separate rate. See Final Determination of Sales at Less Than Fair Value: Sparklers From the People's Republic of China, 56 FR 20588 (May 6, 1991), as amplified by Notice of Final Determination of Sales at Less Than Fair Value: Silicon Carbide From the People's Republic of China, 59 FR 22585 (May 2, 1994), and 19 CFR 351.107(d).

In the Preliminary Results, we stated that the Dare Group, Teamway, and 27 Separate Rate Applicants demonstrated their eligibility for separate-rate status. For the final results, we continue to find that evidence placed on the record of this review only demonstrates that the Dare Group, Teamway, and 27 of the Separate Rate Applicants provided information that shows both a de jure and de facto absence of government control with respect to their respective exports of the merchandise under review, and, thus are eligible for separate-rate status. With respect to the new shipper, Mei Jia Ju, we stated in the Preliminary Results that we were granting a separate rate to Mei Jia Ju. However, because Mei Jia Ju failed to provide us with necessary information within the meaning of section 776(a) of the Act and failed to cooperate to the best of its ability within the meaning of section 776(b) of the Act we applied total adverse facts available to Mei Jia Ju and assigned them the PRC-wide rate of 216.01 percent. No parties have commented on Mei Jia Ju's rate and we continue to assigned Mei Jia Ju an AFA rate of 216.01 percent.

Affiliation

In the Preliminary Results, we stated that the Dare Group entities (Fujian Lianfu Forestry Co. Ltd., Fujian Wonder Pacific Inc., Fuzhou Huan Mei Furniture Co., Ltd., and Jiangsu Dare Furniture Co., Ltd.) were affiliated pursuant to sections 771(33)(E) and (F) of the Act and that these companies should be treated as a single entity for the purposes of the administrative review of wooden bedroom furniture from the PRC. See Preliminary Results, 73 FR at 8278. For the final results, we have made no changes to our findings with respect to the Dare Group's affiliation.

Adverse Facts Available

Sections 776(a)(1) and (2) of the Act provide that the Department shall apply “facts otherwise available” if necessary information is not on the record or an interested party or any other person (A) withholds information that has been requested, (B) fails to provide information within the deadlines established, or in the form and manner requested by the Department, subject to subsections (c)(1) and (e) of section 782, (C) significantly impedes a proceeding, or (D) provides information that cannot be verified as provided by section 782(i) of the Act.

Where the Department determines that a response to a request for information does not comply with the request, section 782(d) of the Act provides that the Department will so inform the party submitting the response and will, to the extent practicable, provide that party the opportunity to remedy or explain the deficiency. If the party fails to remedy the deficiency within the applicable time limits and subject to section 782(e) of the Act, the Department may disregard all or part of the original and subsequent responses, as appropriate. Section 782(e) of the Act provides that the Department “shall not decline to consider information that is submitted by an interested party and is necessary to the determination but does not meet all applicable requirements established by the administering authority” if the information is timely, can be verified, is not so incomplete that it cannot be used, and if the interested party acted to the best of its ability in providing the information. Where all of these conditions are met, the statute requires the Department to use the information if it can do so without undue difficulties.

Section 776(b) of the Act further provides that the Department may use an adverse inference in applying the facts otherwise available when a party has failed to cooperate by not acting to the best of its ability to comply with a request for information. Section 776(b) of the Act also authorizes the Department to use as AFA information derived from the petition, the final determination, a previous administrative review, or other information placed on the record.

Starcorp

In the Preliminary Results, we determined that because Starcorp ceased participating in this administrative review, and requested that the Department and all parties destroy or return its submissions containing business proprietary information, none of Starcorp's information could be verified. As a result, Starcorp did not demonstrate its entitlement to a separate rate and was, therefore, subject to the PRC-wide rate. See Preliminary Results, 73 FR at 8282. For the final results, we made no changes to our findings with respect to Starcorp.

The PRC-Wide Rate

Because we begin with the presumption that all companies within an NME country are subject to government control and because only the companies listed under the “Final Results Margins” section, below, have overcome that presumption, we are applying a single antidumping rate (i.e., the PRC-wide rate) to all other exporters of subject merchandise from the PRC. These other companies did not demonstrate entitlement to a separate rate. See, e.g., Synthetic Indigo From the People's Republic of China; Notice of Final Determination of Sales at Less Than Fair Value, 65 FR 25706, 25707 (May 3, 2000). The PRC-wide rate applies to all entries of subject merchandise except for entries from the respondents that are listed in the “Final Results Margins” section, below.

The Department based the margin for the PRC-wide entity on AFA. See Preliminary Results, 73 FR at 8282. Pursuant to section 776(a) of the Act, the Department found that because the PRC-wide entity failed to respond to the Department's questionnaires, withheld or failed to provide information in a timely manner or in the form or manner requested by the Department, submitted information that could not be verified, or otherwise impeded the process, it was appropriate to apply a dumping margin for the PRC-wide entity using facts otherwise available on the record. The Department further determined that an adverse inference was appropriate because the PRC-wide entity failed to respond to requests for information and therefore failed to cooperate by not acting to the best of its ability. With respect to AFA, we are applying the highest calculated rate from the history of this proceeding: a calculated company-specific rate in a new shipper review of wooden bedroom furniture from the PRC. See Wooden Bedroom Furniture from the People's Republic of China: Final Results of the 2004-2005 Semi-Annual New Shipper Reviews, 71 FR 70739 (December 6, 2006) (“Final 04-05 New Shipper Reviews”).

Corroboration

Section 776(c) of the Act provides that, when the Department relies on secondary information rather than on information obtained in the course of an investigation or review, it shall, to the extent practicable, corroborate that information from independent sources that are reasonably at its disposal. Secondary information is defined as information derived from the petition that gave rise to the investigation or review, the final determination concerning the subject merchandise, or any previous review under section 751 of the Act concerning the subject merchandise. See Statement of Administrative Action accompanying the Uruguay Round Agreements Act, H.R. Doc. No. 103-316, Vol. 1 (1994) (“SAA”), at 870. Corroborate means that the Department will satisfy itself that the secondary information to be used has probative value. Id. To corroborate secondary information, the Department will, to the extent practicable, examine the reliability and relevance of the information to be used. See Tapered Roller Bearings and Parts Thereof, Finished and Unfinished From Japan, and Tapered Roller Bearings, Four Inches or Less in Outside Diameter, and Components Thereof, From Japan; Preliminary Results of Antidumping Duty Administrative Reviews and Partial Termination of Administrative Reviews, 61 FR 57391, 57392 (November 6, 1996) (unchanged in the final results). Independent sources used to corroborate such evidence may include, for example, published price lists, official import statistics and customs data, and information obtained from interested parties during the particular investigation. See SAA at 870; Notice of Final Determination of Sales at Less Than Fair Value: Live Swine From Canada, 70 FR 12181, 12183 (March 11, 2005); Notice of Preliminary Determination of Sales at Less Than Fair Value: High and Ultra-High Voltage Ceramic Station Post Insulators from Japan, 68 FR 35627, 35628-35629 (June 16, 2003) (unchanged in final determination).

The AFA rate that the Department is now using was determined in a previously published final results of new shipper review. See Final 04-05 New Shipper Reviews. In that new shipper review, the Department calculated a company-specific rate, which was above the PRC-wide rate established in the investigation. Because this rate is a company-specific calculated rate concerning subject merchandise, we have determined this rate to be reliable.

With respect to the relevance aspect of corroboration, the Department will consider information reasonably at its disposal to determine whether a margin continues to have relevance. Where circumstances indicate that the selected margin is not appropriate as AFA, the Department will disregard the margin and determine an appropriate margin. See Fresh Cut Flowers From Mexico; Final Results of Antidumping Duty Administrative Review, 61 FR 6812, 6814 (February 22, 1996) (the Department disregarded the highest margin in that case as adverse best information available (the predecessor to facts available) because the margin was based on another company's uncharacteristic business expense resulting in an unusually high margin). Similarly, the Department does not apply a margin that has been discredited. See D&L Supply Co. v. United States, 113 F.3d 1220, 1221 (Fed. Cir. 1997) (ruling that the Department will not use a margin that has been judicially invalidated). To assess the relevancy of the rate used, the Department compared that rate to the margin calculations of the mandatory respondents in the current administrative and new shipper reviews. The Department found that the margin of 216.01 percent was within the range of the highest margins calculated on the record of this administrative review. Because the record of this administrative review contains margins within the range of 216.01 percent, we determine that the rate from the Final 04-05 New Shipper Reviews continues to be relevant for use as AFA in the current administrative and new shipper reviews.

As the adverse margin is both reliable and relevant, we determine that it has probative value. Accordingly, we determine that this rate meets the corroboration criterion established in section 776(c) of the Act, that secondary information have probative value. As a result, the Department determines that the margin is corroborated for the purposes of these administrative reviews and may reasonably be applied to Mei Jia Ju, and the PRC-wide entity as AFA.

Final Results Margins

We determine that the following weighted-average percentage margins exist for the POR:

Wooden Bedroom Furniture From the PRC
Exporter | Weighted-average margin (percent)
Fujian Lianfu Forestry Co., Ltd., aka Fujian Wonder Pacific Inc. (Dare Group) | 17.93
Fuzhou Huan Mei Furniture Co., Ltd. (Dare Group) | 17.93
Jiangsu Dare Furniture Co., Ltd. (Dare Group) | 17.93
Teamway Furniture (Dong Guan) Co. Ltd., Brittomart Inc | 19.93
BNBM Co., Ltd. (aka Beijing New Material Co., Ltd) | 18.82
Classic Furniture Global Co., Ltd | 18.82
Dalian Guangming Furniture Co., Ltd | 18.82
Decca Furniture Ltd., aka Decca | 18.82
Dong Guan Golden Fortune Houseware Co., Ltd | 18.82
Dongguan Mingsheng Furniture Co., Ltd | 18.82
Dongguan Yihaiwei Furniture Limited | 18.82
Fortune Furniture Ltd. and its affiliate, Dongguan Fortune Furniture Ltd | 18.82
Gaomi Yatai Wooden Ware Co., Ltd., Team Prospect International Ltd., Money Gain International Co | 18.82
Guangming Group Wumahe Furniture Co., Ltd | 18.82
Inni Furniture | 18.82
Mei Jia Ju Furniture Industrial (Shenzhen) Co. Ltd | 216.01
Meikangchi (Nantong) Furniture Company Ltd | 18.82
Nanjing Nanmu Furniture Co., Ltd | 18.82
Po Ying Industrial Co | 18.82
Qingdao Beiyuan-Shengli Furniture Co., Ltd., Qingdao Beiyuan Industry Trading Co. Ltd | 18.82
Shenzhen Tiancheng Furniture Co., Ltd., Winbuild Industrial Ltd., Red Apple Furniture Co., Ltd. and Red Apple Trading Co., Ltd | 18.82
Shenyang Kunyu Wood Industry Co., Ltd | 18.82
Shenzhen Xingli Furniture Co., Ltd | 18.82
Tianjin First Wood Co., Ltd | 18.82
Union Friend International Trade Co., Ltd | 18.82
Winmost Enterprises Limited | 18.82
Winny Overseas, Ltd | 18.82
Yangchen Hengli Co., Ltd | 18.82
Yichun Guangming Furniture Co., Ltd | 18.82
Zhong Cheng Furniture Co., Ltd | 18.82
PRC-Wide Rate | 216.01

Assessment Rates

The Department will determine, and U.S. Customs and Border Protection (“CBP”) shall assess, antidumping duties on all appropriate entries. For customers/importers of the respondents that did not report entered value, we have calculated customer/importer-specific antidumping duty assessment amounts based on the ratio of the total amount of antidumping duties calculated for the examined sales of subject merchandise to the total quantity of subject merchandise sold in those transactions. For customers/importers of the respondents that reported entered value, we have calculated customer-specific antidumping duty assessment amounts based on customer/importer-specific ad valorem rates in accordance with 19 CFR 351.212(b)(1). For the companies receiving a separate rate that were not selected for individual review (i.e., separate rate companies), we have calculated an assessment rate based on the weighted average of the cash deposit rates calculated for the companies selected for individual review excluding any that are zero, de minimis, or based entirely on AFA, pursuant to section 735(c)(5)(B) of the Act. The Department intends to issue assessment instructions to CBP 15 days after the date of publication of these final results of administrative and new shipper reviews.

Cash Deposit Requirements

The following cash deposit requirements will be effective upon publication of these final results of this administrative review and new shipper review for all shipments of the subject merchandise entered, or withdrawn from warehouse, for consumption on or after the publication date, as provided for by section 751(a)(2)(C) of the Act: (1) For the exporters listed above, the cash deposit rate will be the rates shown for those companies; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 216.01 percent; and (4) for all non-PRC exporters of subject merchandise which have not received their own rate, the cash deposit rate will be the rate applicable to the PRC exporters that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing these final results and notice in accordance with sections 751(a)(1) and 777(i)(1) of the Act.

Dated: August 11, 2008.
David M. Spooner,
Assistant Secretary for Import Administration.

Appendix II

Cross-Cutting Issues

Comment 1: Surrogate Country

A. Economic Comparability

B. Significant Producer

C. Financial Statements

D. Data Considerations

Comment 2: Combination Rates

Comment 3: New NME Wage Rate

Comment 4: Zeroing

I. Surrogate Values

Comment 5: Wrong Standard for Accepting Respondents Proposed HTS Classifications

Comment 6: Indian Surrogate Values Information Has Been Provided for Teamway and the Dare Group

A. Effective Date

B. India & South Korea

C. Inherent Error in Calculation

Comment 7: Brokerage And Handling, Diesel Fuel, Water, Electricity, and Freight

Comment 8: Accurate Conversion Factors for Lumber and Board

Comment 9: Accurate Average Unit Values

Comment 10: Philippine Financial Statements

Comment 11: Treatment of Certain Expense Items in the Financial Ratios

III. Dare Group

Comment 12: Whether to Apply Partial AFA to the Dare Group's Purchases of Semi-Finished Furniture from Unaffiliated Suppliers

Comment 13: Incorrect Allocation for Indirect Materials, Labor, Energy, Water, and Scrap

Comment 14: Use of Disaggregated Factors of Production and Correct Market Economy Purchase Prices

Comment 15: Exclude Certain Piece Types

Comment 16: Adjust Direct Materials for Unreported Consumption

Comment 17: Modify Assessment Rate Calculation

Comment 18: Conversion Rate for Semi-Finished Furniture Inputs

Comment 19: Raw Material Converters for Plywood

Comment 20: Woodscrap By-Product

Comment 21: Clerical Errors

Comment 22: Corruption of Certain WTA Philippines Import Data

Comment 23: Eliminate Aberrational Values

Comment 24: Change Certain Philippine HTS Categories in Valuing The Dare Group's Inputs

Comment 25: Use Most Updated Datasets

IV. Teamway

Comment 26: Whether to Apply Total AFA to Teamway

Comment 27: Whether and How to Combine the FOP Datasets from May 5, 2008 and May 16, 2008

Comment 28: Whether to Apply an Adverse Inference to Value Merchandise Sold, but not Produced, During the POR

Comment 29: Valuation of Certain Subcontracted Factors

Comment 30: Bun Feet Variance

Comment 31: Packing Labor

Comment 32: Use Market Economy Purchases for Certain Inputs

V. Starcorp

Comment 33: Assign Total AFA

[FR Doc. E8-19303 Filed 8-19-08; 8:45 am]

BILLING CODE 3510-DS-P